DEPARTMENT OF HOMELAND SECURITY

Federal Emergency Management Agency

[Docket ID: FEMA-2018-0011; OMB No. 1660—NEW]

Agency Information Collection Activities: Proposed Collection; Comment Request; Post Disaster Survivor Preparedness Research

AGENCY: Federal Emergency Management Agency, DHS.

ACTION: Notice and request for comments.

SUMMARY: The Federal Emergency Management Agency, as part of its continuing effort to reduce paperwork and respondent burden, invites the general public and other Federal agencies to take this opportunity to comment on a new information collection. In accordance with the Paperwork Reduction Act of 1995, this notice seeks comments concerning post disaster research on the impacts on survivors of disasters including historically underserved communities in disasters such as the 2017 Hurricanes: Harvey, Irma, and Maria.

DATES: Comments must be submitted on or before April 16, 2018.

ADDRESSES: To avoid duplicate submissions to the docket, please use only one of the following means to submit comments:

(1) Online. Submit comments at www.regulations.gov under Docket ID FEMA-2018-0011. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jacqueline Snelling, Senior Advisor, U.S. Department of Homeland Security/FEMA/National Preparedness Directorate, Individual and Community Preparedness Division, Washington, DC 20472-3630, jacqueline.snelling@fema.dhs.gov. You may contact the Information Management Division for copies of the proposed collection of information at email address: FEMA-Information-Collections-Management@fema.dhs.gov.

SUPPLEMENTARY INFORMATION: The Stafford Act, Title VI, Emergency Preparedness (42 U.S.C. 5195-5195(a)) identifies the purpose of emergency preparedness “for the protection of life and property in the United States from hazards.” It directs that the Federal Government “provide necessary direction, coordination, and guidance” as authorized for a comprehensive emergency preparedness system for all hazards. Emergency preparedness is defined as all “activities and measures designed or undertaken to prepare or minimize the effects of a hazard upon the civilian population . . . .” The “conduct of research” is among the measures to be undertaken in preparation for hazards.

The FEMA Strategic Plan 2014-2018 references FEMA priorities for preparing individuals in Priority #1, to achieve a survivor-centric mission where “Individuals and communities know the steps to take, have the tools required, and take appropriate actions, before, during, and after disasters, and in Priority #3, to better prepare survivors and bystanders.

Presidential Policy Directive—8 (PPD-8) directs the Secretary of Homeland Security to “coordinate a comprehensive campaign to build and sustain national preparedness, including public outreach and community-based and private sector programs to enhance national resilience, the provision of Federal financial assistance, preparedness efforts by the Federal Government, and national research and development efforts.”

Collection of Information

Title: Post Disaster Survivor Preparedness Research.

Type of Information Collection: New information collection.

OMB Number: 1660—NEW.

FEMA Forms: FEMA Form 519-0-54, Post Disaster Survivor Preparedness Research.

Abstract: Through improved understanding of the relationship between an individual's preparedness knowledge, actions, and perception and self-efficacy, FEMA will be able to draw some conclusions as to how these factors contribute to and/or hinder life-saving responses and short and long-term recovery, with a focus on historically underserved communities.

Affected Public: Individuals or households.

Estimated Number of Respondents: 3,120.

Estimated Number of Responses: 3,120.

Estimated Total Annual Burden Hours: 740.

Estimated Total Annual Respondent Cost: $19,240.00.

Estimated Respondents' Operation and Maintenance Costs: $0.

Estimated Respondents' Capital and Start-Up Costs: $0.

Estimated Total Annual Cost to the Federal Government: $186,573.45.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 8, 2018.
William H. Holzerland,
Senior Director for Information Management, Office of the Chief Administrative Officer, Mission Support, Federal Emergency Management Agency, Department of Homeland Security.

[FR Doc. 2018-03073 Filed 2-13-18; 8:45 am]

BILLING CODE 9111-46-P